DEPARTMENT OF HOUSING AND URBAN DEVELOPMENT

[Docket No. FR-7082-N-04]

60-Day Notice of Proposed Information Collection: Housing Opportunities for Persons With AIDS (HOPWA) Program, OMB Control No.: 2506-0133

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 22, 2024.

ADDRESSES: Interested persons are invited to submit comments regarding this proposal.

Written comments and recommendations for the proposed information collection can be sent within 60 days of publication of this notice to www.reginfo.gov/public/do/PRAMain. Find this particular information collection by selecting “Currently under 60-day Review—Open for Public Comments” or by using the search function. Interested persons are also invited to submit comments regarding this proposal by name and/or OMB Control Number and should be sent to: Colette Pollard, Reports Management Officer, REE, Department of Housing and Urban Development, 451 7th Street SW, Room 8210, Washington, DC 20410-5000; telephone 202-402-3577 (this is not a toll-free number) or email: PaperworkReductionActOffice@hud.gov.

FOR FURTHER INFORMATION CONTACT: Claire Donze, Senior Program Financial Operations Specialist, Office of HIV/AIDS Housing, Department of Housing and Urban Development, 451 7th Street SW, Washington, DC 20410; email Claire Donze at Claire.L.Donze@hud.gov or telephone 202-402-2365. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Claire Donze.

SUPPLEMENTARY INFORMATION: This notice informs the public that HUD is seeking approval from OMB for the information collection described in Section A.

A. Overview of Information Collection

Title of Information Collection: Housing Opportunities for Persons With AIDS (HOPWA): Grant Reporting, Recordkeeping, and Closeout.

OMB Approval Number: 2506-0133.

Type of Request: Revision of currently approved collection.

Form Number: HUD-4153, HUD-4154, HUD-4155, SF-425.

Description of the need for the information and proposed use:

The current Paperwork Reduction Act approval under OMB Control No. 2506-0133 covers reporting, record keeping, and application requirements for both the HOPWA formula and competitive grant programs. The competitive grant program includes new competitive grants and renewal/replacement grants. This revision applies to reporting and closeout requirements for all HOPWA grantees.

This submission requests to add additional data elements to form HUD-4155, remove forms that are no longer needed, remove pre-award information that will be covered with a child submission through the HUD generic information collection request under OMB Control Number 2501-0044, adjust language in form HUD-4154, update form HUD-4153 to reflect published Notices of Funding Opportunity (NOFOs), and add grant closeout to the paperwork collection package with a new HOPWA grant closeout form.

The addition of information collection for grant closeout will apply to all HOPWA grantees. The use of a new HOPWA grant closeout certification form, the SF425, and all other relevant reports to the grant project will ensure grantees are able to close active grants when the project is complete by determining that all applicable administrative actions and all required work of the grant have been completed by the grantee.

HUD systematically reviews and conducts data analysis in order to prepare national and individual grantee performance profiles that are not only used to measure program performance against benchmark goals and objectives, but also to communicate the program's achievement and contributions towards Departmental strategic goals. HUD plans to continue using the data elements in this submission for these purposes.

Respondents: HOPWA competitive and renewal grant applicants, and all HOPWA formula, competitive, and renewal grantees.

Information collection | Number of respondents | Frequency of response | Responses per annum | Burden hour per response | Annual burden hours | Hourly cost per response | Annual cost
Consolidated APR/CAPER data elements (HUD-4155) | 258.00 | 1.00 | 258.00 | 40.00 | 10,320.00 | $28.73 | $296,493.60
HUD-4154, HIV Housing Care Continuum Model Report (new competitive SPNS grant only) | 40.00 | 1.00 | 40.00 | 20.00 | 800.00 | 28.73 | 22,984.00
HUD-4153, SPNS Grant Model Report (new competitive SPNS grant only) | 40.00 | 1.00 | 40.00 | 40.00 | 1,600.00 | 28.73 | 45,968.00
Recordkeeping for Competitive, PSH, and Formula Grantees | 258.00 | 1.00 | 258.00 | 60.00 | 1,5480.00 | 28.73 | 444,740.40
Grant Amendments (budget change, extension, or early termination) | 30.00 | 1.00 | 30.00 | 6.00 | 180.00 | 28.73 | 5,171.40
Grant Closeout (closeout certification, SF425, and all financial, performance, and other reports required as a condition of the grant) | 258.00 | 1.00 | 200.00 | 12.00 | 2,400.00 | 28.73 | 68,952.00
Total | 884.00 |  | 826.00 |  | 30,780.00 |  | $884,309.40

HOPWA grantees and applicants may be required to respond to more than one piece of information collection. All annualized costs reflect staff time spent on tasks in the table. The hourly rate of $28.73 is based on a GS-9 for Rest of United States. 10,320 hours * $28.73 = $296,493.

The estimated costs under this OMB approval number in this request is lower than previous approval. This accounts for the removal of forms HUD-40110-C/D, and removal of pre-award information. Updates on the chart also include the addition of grant closeout, increases for a larger number of new competitive SPNS grants, and higher hourly wage.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. 3507.

Marion M. McFadden,
Principal Deputy Assistant Secretary for Community Planning and Development.

[FR Doc. 2024-11110 Filed 5-20-24; 8:45 am]

BILLING CODE 4210-67-P